DEPARTMENT OF TRANSPORTATION

Coast Guard

33 CFR Part 117

[CGD01-02-042]

Drawbridge Operation Regulations: Taunton River, MA

AGENCY: Coast Guard, DOT.

ACTION: Notice of temporary deviation from regulations.

SUMMARY: The Commander, First Coast Guard District, has issued a temporary deviation from the drawbridge operation regulations for the Brightman Street Bridge, mile 1.8, across the Taunton River between Somerset and Fall River, Massachusetts. This deviation from the regulations, effective from 9 p.m. on April 12, 2002 through 4 p.m. on April 26, 2002, allows the bridge to remain in the closed position for vessel traffic to facilitate scheduled maintenance at the bridge.

DATES: This deviation is effective from April 12, 2002 through April 26, 2002.

FOR FURTHER INFORMATION CONTACT: John W. McDonald, Project Officer, First Coast Guard District, at (617) 223-8364.

SUPPLEMENTARY INFORMATION: The bridge owner, Massachusetts Highway Department, requested a temporary deviation from the drawbridge operating regulations on February 11, 2002, to facilitate necessary structural repairs at the bridge, replacement of the main floor beam, from 9 p.m. on April 5, 2002 through 4 p.m. on April 19, 2002.

The Coast Guard published a temporary deviation (CGD01-02-035) on March 27, 2002, to facilitate the above scheduled bridge maintenance. The Coast Guard received a revised request from the owner of the bridge changing the effective period for this scheduled bridge maintenance to 9 p.m. on April 12, 2002 through 4 p.m. on April 26, 2002, as a result of a late response from an upstream facility expecting a ship delivery that would be in conflict with the original effective period.

As a result of the above information, this deviation to the operating regulations, cancels the temporary deviation (CGD01-02-035) published on March 27, 2002, and allows the Brightman Street Bridge to remain in the closed position for vessel traffic from 9 p.m. on April 12, 2002 through 4 p.m. on April 26, 2002.

This deviation from the operating regulations is authorized under 33 CFR 117.35, and will be performed with all due speed in order to return the bridge to normal operation as soon as possible.

Dated: April 3, 2002.
G.N. Naccara,
Rear Admiral, U.S. Coast Guard, Commander, First Coast Guard District.

[FR Doc. 02-9132 Filed 4-15-02; 8:45 am]

BILLING CODE 4910-15-U